DEPARTMENT OF COMMERCE

National Oceanic and Atmospheric Administration

[I.D. 040904A]

Marine Mammals; File Nos. 226-1752, 116-1742, and 878-1715

AGENCY: National Marine Fisheries Service (NMFS), National Oceanic and Atmospheric Administration (NOAA), Commerce.

ACTION: Receipt of applications.

SUMMARY: Notice is hereby given that the following applicants have applied in due form for permits to import marine mammals for purposes of public display: Theater of the Sea, 84721 Overseas Highway, Islamorada, Florida 33036 (File No. 226-1752) and Sea World, Inc., 7007 Sea World Drive, Orlando, Florida 32821 (File No. 116-1742). In addition, notice is hereby given that Daniel F. Cowan, M.D., The University of Texas Medical Branch, Galveston, Texas 77555-0555 (File No. 878-1715) has applied in due form for a permit to take parts from species of marine mammals for purposes of scientific research.

DATES: Written, telefaxed, or e-mail comments must be received on or before May 17, 2004.

ADDRESSES: The application requests and related documents are available for review upon written request or by appointment in the following office(s):

Permits, Conservation and Education Division, Office of Protected Resources, NMFS, 1315 East-West Highway, Room 13705, Silver Spring, MD 20910; phone (301)713-2289; fax (301)713-0376;

File No. 116-1742: Southwest Region, NMFS, 501 West Ocean Blvd., Suite 4200, Long Beach, CA 90802-4213; phone (562)980-4001; fax (562)980-4018; and

File Nos. 226-1752 and 878-1715: Southeast Region, NMFS, 9721 Executive Center Drive North, St. Petersburg, FL 33702-2432; phone (727)570-5301; fax (727)570-5320.

Written comments or requests for a public hearing on these requests should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 226-1752, 116-1742, or 878-1715.

FOR FURTHER INFORMATION CONTACT: Jennifer Skidmore, Jill Lewandowski, or Ruth Johnson, (301)713-2289.

SUPPLEMENTARY INFORMATION: The subject permits are requested under the authority of the Marine Mammal Protection Act of 1972, as amended (MMPA; 16 U.S.C. 1361 et seq.), the Regulations Governing the Taking and Importing of Marine Mammals (50 CFR part 216), the Fur Seal Act of 1966, as amended (16 U.S.C. 1151 et seq.), the Endangered Species Act of 1973, as amended (ESA; 16 U.S.C. 1531 et seq.), and the regulations governing the taking, importing, and exporting of endangered and threatened species (50 CFR 222-226).

File No. 226-1752: Theater of the Sea requests authorization to import one male, adult bottlenose dolphin (Tursiops truncatus) from West Edmonton Mall, Alberta, Canada to their facility in Islamorada, Florida for the purpose of public display. The receiving facility is: (1) open to the public on regularly scheduled basis with access that is not limited or restricted other than by charging for an admission fee; (2) offers an educational program based on professionally accepted standards of the Alliance for Marine Mammal Parks and Aquariums; and (3) holds an Exhibitor's License, number 58-C-0182 , issued by the U.S. Department of Agriculture under the Animal Welfare Act (7 U.S.C. 2131-59).

File No. 116-1742: Sea World, Inc. requests authorization to import one female, adult beluga whale (Delphinapterus leucas), identified as “Allua”, from the Vancouver Aquarium Marine Science Center, British Columbia, Canada to Sea World of California in San Diego, California. The applicant requests this import for the purpose of public display. The receiving facility, Sea World of California, 1720 South Shores Road, San Diego, California 92109 is: (1) open to the public on regularly scheduled basis with access that is not limited or restricted other than by charging for an admission fee; (2) offers an educational program based on professionally accepted standards of the AZA and the Alliance for Marine Mammal Parks and Aquariums; and (3) holds an Exhibitor's License, number 93-C-069, issued by the U.S. Department of Agriculture under the Animal Welfare Act (7 U.S.C. 2131-59).

In addition to determining whether these applicants meet the three public display criteria, NMFS must determine whether the applicants have demonstrated that the proposed activity is humane and does not represent any unnecessary risks to the health and welfare of marine mammals; that the proposed activity by itself, or in combination with other activities, will not likely have a significant adverse impact on the species or stock; and that the applicant's expertise, facilities and resources are adequate to accomplish successfully the objectives and activities stated in the application.

File No. 878-1715: Dr. Cowan proposes to acquire, import and export specimen samples (blood, tissue or body fluids) from all marine mammal species (pinnipeds and cetaceans) under NMFS jurisdiction. An unlimited number of samples would be taken from the following: (1) stranded marine mammal carcasses; (2) other legally taken (collected) dead animals, or (3) live stranded marine mammals as part of a program of diagnosis and rehabilitation of live stranded marine mammals. Importation and exportation are requested in order to provide specimens to the international scientific community for consultation of diagnosis. The objective of this permit is to utilize samples to determine the cause of disease or death or of stranding, leading to treatment, for example, in a mass mortality event or of individuals from endangered stocks. The applicant has requested a 5-year permit.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of these applications to the Marine Mammal Commission and its Committee of Scientific Advisors.

Dated: April 12, 2004.
Stephen L. Leathery,
Chief, Permits, Conservation and Education Division, Office of Protected Resources, National Marine Fisheries Service.

[FR Doc. 04-8696 Filed 4-15-04; 8:45 am]

BILLING CODE 3510-22-S